DEPARTMENT OF TRANSPORTATION

Federal Highway Administration

Environmental Impact Statement; Orange County, California

AGENCY: Federal Highway Administration (FHWA), DOT.

ACTION: Notice of intent.

SUMMARY: The FHWA is issuing this notice to advise the public that an Environmental Impact Statement will be prepared for a series of proposed grade separations within the Orangethorpe Rail Corridor (a section of the Burlington Northern Santa Fe rail line) located within the Cities of Placentia and Anaheim in Orange County, California.

FOR FURTHER INFORMATION CONTACT: Tay Dam, Senior Transportation Engineer, Federal Highway Administration—Los Angeles Metro Office, 201 N. Figueroa Street, Suite 1460, Los Angeles, CA 90012. Telephone: (213) 202-3954.

SUPPLEMENTARY INFORMATION: The Burlington Northern Santa Fe (BNSF) rail line through Orange County is one of three main rail freight routes out of the Los Angeles area. International cargo comes into and out of the Ports of Los Angeles and Long Beach. The BNSF rail line serves those ports via the Alameda Corridor, a joint use line serving both the Union Pacific and BNSF railway companies, connects to the Hobart Yard outside downtown Los Angeles, and proceeds southeast through Pico Rivera and Santa Fe Springs. The line then continues through northern Orange County, the City of Corona, San Bernardino County, and, ultimately, the Gulf States and eastern United States. This proposed project is a part of the regional traffic congestion relief project called the Orange County Gateway (OCG) which is located within the limits of the Cities of Placentia, Fullerton, Anaheim, Yorba Linda, and the County of Orange.

The FHWA, as a federal lead agency, in cooperation with the Federal Railroad Administration, the California Department of Transportation, and the City of Placentia/Orange North American Trade Rail Access Corridor Authority (On Trac), will prepare an Environmental Impact Statement (EIS) on a proposal to (1) Reduce traffic congestion; (2) eliminate or reduce the current and potential hazards posed by the existing at-grade crossings; (3) accommodate currently planned railroad expansion; (4) and implement transportation strategies to increase the efficiency of moving people and goods throughout the Orangethorpe Rail Corridor area.

Alternatives under consideration include (1) A no build option; (2) a series of grade separations option; and (3) a railroad trench option within the Orangethorpe Rail Corridor between Placentia Avenue and Imperial Highway in northern Orange County, California.

These basic alternatives will have additional design variations and other engineering details. A final selection of study alternatives and their subset variations will not be made until all public and agency comments are reviewed following the Scoping process.

Note: As required by the National Environmental Policy Act (NEPA) of 1969, all other reasonable alternatives will be considered. These alternatives may be refined, combined with various different alternative elements, or be removed from further consideration, as more analysis is conducted on the project alternatives.

Letters describing the proposed action and soliciting comments will be sent to appropriate Federal, State, and local agencies, and to private organizations and citizens who have previously expressed or are known to have interest in this proposal. Public scoping meetings will be held on January 22 and 24, 2002 in the City of Placentia prior to preparation of the draft EIS. Public notice will be given of the time and place of these meetings.

Public hearing(s) will be held after the draft EIS is completed. Public notice will be given of the time and place of the hearing(s). The draft EIS will be available for public and agency review and comment prior to the formal public hearing(s).

To ensure that the full range of issues related to the proposed action are addressed and all significant issues are identified, comments and suggestions are invited from all interested parties. Comments or questions concerning this proposed action and the EIS should be directed to the FHWA at the addresses provided above.

(Catalog of Federal Domestic Assistance Program Number 20.205, Highway Planning and Construction. The regulations implementing Executive Order 12372 regarding intergovernmental consultation on Federal programs and activities apply to this program)
Issued on: December 19, 2001.
Jeffrey W. Kolb,
Chief, District Operations-South, Sacramento, California.

[FR Doc. 01-31904 Filed 12-27-01; 8:45 am]

BILLING CODE 4910-22-M